DEPARTMENT OF COMMERCE

National Oceanic and Atmospheric Administration

Proposed Information Collection; Comment Request; Dam Owner Survey to Support Management of Gulf of Maine Distinct Population Segment (GOM DPS) of Atlantic Salmon

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 25, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Tara Trinko, 207-866-4238 or Tara.Trinko@noaa.gov.

SUPPLEMENTARY INFORMATION:

I. Abstract

This is a request for a new information collection.

In 2009, Atlantic salmon populations from the Androscoggin River in South Central Maine to the Dennys River in Eastern Maine were listed as Endangered under the Federal Endangered Species Act (ESA) (74 FR 29344, June 19, 2009). Dams were identified in the listing as a significant threat to the species survival and recovery. In order for recovery to occur, Atlantic salmon must have access to sufficient adult spawning habitat and juvenile rearing habitat to support the continued existence of a recovered salmon population. In furtherance of recovery, the National Marine Fisheries Service (NMFS) proposes to conduct a survey of dam owners.

This survey will allow NMFS to identify owners of non-Federal Energy Regulatory Commission (FERC) regulated dams and present to them opportunities to participate in programs that will aid them in complying with the ESA. Owners of non-FERC dams often do not have regulatory oversight by a Federal agency and therefore, may not be aware of the requirements of the ESA and what this means to them. This survey will identify opportunities for fish passage improvements or dam removal that may fit into existing funding programs directed towards improving fish passage for diadromous fish species. Information from this survey will also be collected to educate NOAA on the current use, anticipated use, and community interest in small dams. This type of information will aid NMFS in developing tools to communicate and work effectively with dam owners within the GOM DPS. Information will be collected on current uses of dams, anticipated uses of dams, important issues or concerns to dam owners, and owners' interest in creating fish passage or removing dams. Known associations or organizations with an interest in the dams will also be identified.

Respondents will represent members of state and local agencies, private individuals and corporations, and commercial businesses. Results will be used to assist NMFS in identifying dam owners who are interested in discussing potential enhancements to Atlantic salmon habitats.

II. Method of Collection

The geographic spread of potential respondents is extensive and includes residents of Maine as well as nonresidents. Most respondents will be contacted via an initial letter and a follow-up telephone call. Personal interviews will be scheduled with a few respondents owning multiple (in excess of 5) dams and the information collected will be recorded electronically.

III. Data

OMB Control Number: None.

Form Number: None.

Type of Review: Regular submission (new information collection).

Affected Public: Individuals or households, non-profit institutions; State, local, or tribal government; Federal government, business or other for-profit organizations.

Estimated Number of Respondents: 309.

Estimated Time Per Response: 7 minutes.

Estimated Total Annual Burden Hours: 36.

Estimated Total Annual Cost to Public: $0 for record keeping/reporting.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 22, 2010.
Gwellnar Banks,
Management Analyst, Office of the Chief Information Officer.

[FR Doc. 2010-29722 Filed 11-24-10; 8:45 am]

BILLING CODE 3510-22-P